DEPARTMENT OF THE INTERIOR

National Park Service

[NPS-WASO-NAGPRA-NPS0035572; PPWOCRADN0-PCU00RP14.R50000]

Notice of Inventory Completion: U.S. Department of the Interior, Bureau of Indian Affairs, Washington, DC

AGENCY: National Park Service, Interior.

ACTION: Notice.

SUMMARY: In accordance with the Native American Graves Protection and Repatriation Act (NAGPRA), the U.S. Department of the Interior, Bureau of Indian Affairs (BIA) has completed an inventory of human remains and associated funerary objects and has determined that there is a cultural affiliation between the human remains and associated funerary objects and Indian Tribes or Native Hawaiian organizations in this notice. The human remains and associated funerary objects were removed from McKinley County, NM.

DATES: Repatriation of the human remains and associated funerary objects in this notice may occur on or after May 4, 2023.

ADDRESSES: Ms. Tamara Billie, U.S. Department of Interior, Bureau of Indian Affairs, 1001 Indian School Road NW, Mailbox 44, Albuquerque, NM 87104, telephone (505) 879-9711, email tamara.billie@bia.gov.

SUPPLEMENTARY INFORMATION: This notice is published as part of the National Park Service's administrative responsibilities under NAGPRA. The determinations in this notice are the sole responsibility of the BIA. The National Park Service is not responsible for the determinations in this notice. Additional information on the determinations in this notice, including the results of consultation, can be found in the inventory or related records held by the BIA.

Description

Human remains representing, at minimum, two individuals were removed from site NA11527 in McKinley County, NM. This site is located along Zuni Route Z5 (Nutria Road), 1.75 miles north of New Mexico SR 53. Two burials were excavated by the Museum of Northern Arizona in 1973, during an authorized highway improvement project. Burial 1 contained the human remains of an adult of indeterminate sex; burial orientation is unknown. No associated funerary objects are present. Burial 2 contained the human remains of a neonate of indeterminate sex; burial orientation is unknown. No associated funerary objects are present. The site is associated with the Cibola tradition archeological complex, and the ceramic evidence indicates an occupation during the Pueblo III period (A.D. 1150-1300).

Human remains representing, at minimum, five individuals were removed from site NA11530 in McKinley County, NM. This site is located within the right-of-way of Zuni Route Z5 (Nutria Road), 1.5 miles north of New Mexico SR 53. Five burials were excavated by the Museum of Northern Arizona in 1973, during an authorized highway improvement project. Burial 1 contained the human remains of an adult male (45+ years old). This individual was buried semi-flexed on the right side and with the head oriented to the east. The 38 associated funerary objects are one miniature indented corrugated Cibola Gray Ware jar, two St. Johns Polychrome bowls, one quartzite hammerstone, six lots of pollen samples, one faunal bone fragment, and 27 ceramic sherds. Burial 2 contained the human remains of an adult male (30-35 years old). This individual was buried semi-flexed on the right side and with the head oriented to the northeast. The 13 associated funerary objects are one Klagetoh Black-on-white bowl, one flotation sample, three pollen samples, and eight ceramic sherds. Burial 3 contained the human remains of an adult male (45-55 years old). This individual was buried semi-flexed on the right side and with the head oriented to the east. The 75 associated funerary objects are one St. Johns Polychrome bowl, one Pinedale Polychrome pitcher, two pollen samples, one floatation sample, four faunal bones, three plant material samples, two groundstones, and 61 ceramic sherds. Burial 4 contained the human remains of an adult of indeterminate sex; burial orientation is unknown. No associated funerary objects are present. Burial 5 contained the human remains of a juvenile (<6 years old) of indeterminate sex; burial orientation is unknown. No associated funerary objects are present. The site is associated with the Cibola tradition archeological complex, and the ceramic evidence indicates an occupation during the Pueblo III period (A.D. 1150-1300).

Human remains representing, at minimum, one individual were removed from site NA14084 in McKinley County, NM. This site is located within the right-of-way of Zuni Route Z4 (BIA Route 4), approximately 1.4 miles north of New Mexico SR 53. One burial was excavated by the Museum of Northern Arizona in 1975, during an authorized highway improvement project. Burial 1 contained the human remains of a juvenile (2-3 years) of indeterminate sex; burial orientation is unknown. The two associated funerary objects are one stone concretion and one flaked stone. The site is associated with the Cibola tradition archeological complex, and the ceramic evidence indicates an occupation during the Pueblo I and Pueblo II periods (A.D. 800-1150).

Human remains representing, at minimum, one individual were removed from site NA14086 in McKinley County, NM. This site is located within the right-of-way of Zuni Route Z4 (BIA Route 4), 1.7 miles north of New Mexico SR 53. One burial was excavated by the Museum of Northern Arizona in 1975, during an authorized highway improvement project. Burial 1 contained the human remains of an adult of indeterminate sex; burial orientation is unknown. No associated funerary objects are present. The site is associated with the Cibola tradition archeological complex, and the ceramic evidence indicates an occupation during the Pueblo II to Pueblo III periods (A.D. 900-1250).

Human remains representing, at minimum, one individual were removed from site NA14099 in McKinley County, NM. This site is located within the right-of-way of Zuni Route Z4 (BIA Route 4), 1.9 miles north of New Mexico SR 53. One burial was excavated by the Museum of Northern Arizona in 1975, during an authorized highway improvement project. Burial 1 contained the human remains of an adult of indeterminate sex; burial orientation is unknown. No associated funerary objects are present. The site is associated with the Cibola tradition archeological complex, and the ceramic evidence indicates an occupation during the Pueblo I-III periods (A.D. 700-1300).

Cultural Affiliation

The human remains and associated funerary objects in this notice are connected to one or more identifiable earlier groups, tribes, peoples, or cultures. There is a relationship of shared group identity between the identifiable earlier groups, tribes, peoples, or cultures and one or more Indian Tribes or Native Hawaiian organizations. The following types of information were used to reasonably trace the relationship: geographical, oral traditional, anthropological, and archeological.

Determinations

Pursuant to NAGPRA and its implementing regulations, and after consultation with the appropriate Indian Tribes and Native Hawaiian organizations, the BIA has determined that:

• The human remains described in this notice represent the physical remains of 10 individuals of Native American ancestry.

• The 128 objects described in this notice are reasonably believed to have been placed with or near individual human remains at the time of death or later as part of the death rite or ceremony.

• There is a relationship of shared group identity that can be reasonably traced between the human remains and associated funerary objects described in this notice and the Zuni Tribe of the Zuni Reservation, New Mexico.

Requests for Repatriation

Written requests for repatriation of the human remains and associated funerary objects in this notice must be sent to the Responsible Official identified in ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains and associated funerary objects in this notice to a requestor may occur on or after May 4, 2023. If competing requests for repatriation are received, the BIA must determine the most appropriate requestor prior to repatriation. Requests for joint repatriation of the human remains and associated funerary objects are considered a single request and not competing requests. The BIA is responsible for sending a copy of this notice to the Indian Tribe identified in this notice.

Authority: Native American Graves Protection and Repatriation Act, 25 U.S.C. 3003, and the implementing regulations, 43 CFR 10.9, 10.10, and 10.14.

Dated: March 22, 2023.
Melanie O'Brien,
Manager, National NAGPRA Program.

[FR Doc. 2023-06918 Filed 4-3-23; 8:45 am]

BILLING CODE 4312-52-P